DEPARTMENT OF TRANSPORTATION

Federal Aviation Administration

Notice of Intent To Release Certain Properties From All Terms, Conditions, Reservations and Restrictions of a Quitclaim Deed Agreement Between the City of Marianna and the Federal Aviation Administration for the Marianna Municipal Airport, Marianna, FL

AGENCY: Federal Aviation Administration (FAA), DOT.

ACTION: Request for public comment.

SUMMARY: The FAA hereby provides notice of intent to release certain airport properties 28.18 acres at the Marianna Municipal Airport, Marianna, FL from the conditions, reservations, and restrictions as contained in a Quitclaim Deed agreement between the FAA and the the City of Marianna, dated August 2, 1947. The release of property will allow the City of Marianna to dispose of the property for other than aeronautical purposes. The property is located at 3595 Industrial Park Drive, Marianna, Florida 32446, in the southeastern quadrant of airport property. The parcel is currently designated nonareonautical land. The property will be released of its federal obligations to allow for a swap of other property needed for aeronautical purposes. The parcel to be received by the Airport is 57.81 acres and is located in the Runway Protection Zone of Runway 36. The fair market value of the parcel to be released has been determined to be $200,000. The fair market value of the parcel to be received has been determined to be $159,000. The Airport will also receive a benefit of enhanced safety by acquiring Runway Protection Zone lands.

Documents reflecting the Sponsor's request are available, by appointment only, for inspection at the Marianna Municipal Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before December 16, 2013.

ADDRESSES: Documents are available for review at Marianna Municipal Airport, and the FAA Airports District Office, 5950 Hazeltine National Drive, Suite 400, Orlando, FL 32822. Written comments on the Sponsor's request must be delivered or mailed to: Bill Farris, Program Manager, Orlando Airports District Office, 5950 Hazeltine National Drive, Suite 400, Orlando, FL 32822-5024.

FOR FURTHER INFORMATION CONTACT: Bill Farris, Program Manager, Orlando Airports District Office, 5950 Hazeltine National Drive, Suite 400, Orlando, FL 32822-5024.

Bart Vernace,
Manager, Orlando Airports District Office, Southern Region.

[FR Doc. 2013-27332 Filed 11-14-13; 8:45 am]

BILLING CODE 4910-13-P